DEPARTMENT OF DEFENSE

Office of the Secretary

[Docket ID DOD-2011-OS-0148]

Privacy Act of 1974; Systems of Records

AGENCY: National Security Agency/Central Security Service, DoD.

ACTION: Notice to Alter a System of Records.

SUMMARY: The National Security Agency (NSA) is proposing to alter a system of records in its inventory of records systems subject to the Privacy Act of 1974 (5 U.S.C. 552a), as amended.

DATES: This action will be effective without further notice on January 30, 2012 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, NSA/CSS Freedom of Information Act and Privacy Act Office, 9800 Savage Road, Suite 6248, Ft. George G. Meade, MD 20766-6248, or by phone at (301) 688-6527.

SUPPLEMENTARY INFORMATION: The National Security Agency/Central Security Service systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on December 21, 2011, to the House Committee on Government Reform, The Senate Committee on Governmental Affairs, and the Office of Management and Budget (OMB) pursuant to paragraph 4c of Appendix I to OMB Circular No. A-130, `Federal Agency Responsibilities for Maintaining Records About Individuals,' dated December 12, 2000, 65 FR 239.

Dated: December 27, 2011.
Aaron Siegel,
Alternate OSD Federal Register Liaison Officer, Department of Defense.

GNSA 09

System Name:

NSA/CSS Personnel File (January 15, 2010, 75 FR 2514).

Changes:

* * * * *

Categories of individuals covered by the system:

Delete entry and replace with “Civilian employees, personnel under contract, military assignees, dependents of NSA/CSS personnel assigned to field elements, individuals integrated into the Selective Employment Retiree (SER), Stand-by Active Reserve (SAR), custodial and commercial services personnel.”

Categories of records in the system:

Delete entry and replace with “File contains name, Social Security Number (SSN), NSA/CSS employee identification number, date and place of birth, home address, home telephone number, personnel papers and forms including but not limited to applications, transcripts, correspondence, notices of personnel action, performance appraisals, internal staffing resume, professionalization documentation and correspondence, training forms, temporary duty, letters of reprimand, special assignment documentation, letters of commendation, promotion documentation, field assignment preference, requests for transfers, permanent change of station, passport, transportation, official orders, awards, suggestions, pictures, complaints, separation, retirement, time utilization, scholarship/fellowship or other school appointments, military service, reserve status, military check in/out sheets, military orders, security appraisal, career battery and other test results, language capability, military personnel utilization survey, work experience, notes and memoranda on individual aspects of performance, productivity and suitability, information on individual eligibility to serve on various boards and committees, emergency loan records, other information relevant to personnel management, and housing information where required.”

Authority for maintenance of the system:

Delete entry and replace with “National Security Agency Act of 1959, Public Law 86-36, (codified at 50 U.S.C. Section 402 note); 5 U.S.C. chapter 11, Office of Personnel Management (OPM) and certain implementing OPM regulations contained within 5 C.F.R. Part 293, Personnel Records; 10 U.S.C. chapter 1124, Cash Awards for disclosures, suggestions, inventions, and scientific achievements; 44 U.S.C. 3101, Records management by agency heads; general duties; and E.O. 9397 (SSN) as amended.”

* * * * *

Safeguards:

Delete entry and replace with “Buildings are secured by a series of guarded pedestrian gates and checkpoints. Access to facilities is limited to security-cleared personnel and escorted visitors only. Within the offices housing these records, paper/hard-copy records are stored in locked containers with limited access, and access to electronic records is limited and controlled by password protection. Access to information is limited to those individuals authorized and responsible for personnel management or supervision. All personnel requiring access to the information receive annual Privacy Act training.”

Retention and Disposal:

Delete entry and replace with “Primary System—Those forms, notices, reports and memoranda considered to be of permanent value or required by law or regulation to be preserved are retained for the period of employment or assignment and then forwarded to the gaining organization or retained indefinitely. If the action is separation or retirement, these items are forwarded to the Office of Personnel Management or retired to the Federal Records Center in St. Louis as appropriate. Those items considered to be relevant for a temporary period only are retained for that period and either transferred with the employee or assignee or destroyed when they are no longer relevant or at the time of separation or retirement. Computerized portion is purged and updated as appropriate. Records relating to adverse actions, grievances, excluding EEO complaints and performance-based actions, except SF-50s, will be retained for seven years. Personnel summary, training, testing and past activity segments are retained permanently. All other portions are deleted at end of tenure.

Decentralized System—Files are transferred to gaining organization or destroyed upon separation as appropriate. Computer listings of personnel assigned to an organization are destroyed upon receipt of updated listings.”

System manager(s) and address:

Delete entry and replace with “The Associate Director, Human Resources, National Security Agency/Central Security Service, 9800 Savage Road, Ft. George G. Meade, MD 20755-6000.”

Notification Procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.”

Record Access Procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.”

Contesting Record Procedures:

Delete entry and replace with “The NSA/CSS rules for contesting contents and appealing initial determinations are published at 32 CFR Part 322 or may be obtained by written request addressed to the National Security Agency/Central Security Service, Freedom of Information Act/Privacy Act Office, 9800 Savage Road, Suite 6248, Ft. George G. Meade, MD 20755-6248.”

* * * * *

GNSA 09

System Name:

NSA/CSS Personnel File .

System Location:

Primary Location: National Security Agency/Central Security Agency, Ft. George G. Meade, MD 20755-6000.

Decentralized segments:

Each staff, line, contract and field element as authorized and appropriate.

Categories of individuals covered by the system:

Civilian employees, personnel under contract, military assignees, dependents of NSA/CSS personnel assigned to field elements, individuals integrated into the Selective Employment Retiree (SER), Stand-by Active Reserve (SAR), custodial and commercial services personnel.

Categories of records in the system:

File contains name, Social Security Number (SSN), NSA/CSS employee identification number, date and place of birth, home address, home telephone number, personnel papers and forms including but not limited to applications, transcripts, correspondence, notices of personnel action, performance appraisals, internal staffing resume, professionalization documentation and correspondence, training forms, temporary duty, letters of reprimand, special assignment documentation, letters of commendation, promotion documentation, field assignment preference, requests for transfers, permanent change of station, passport, transportation, official orders, awards, suggestions, pictures, complaints, separation, retirement, time utilization, scholarship/fellowship or other school appointments, military service, reserve status, military check in/out sheets, military orders, security appraisal, career battery and other test results, language capability, military personnel utilization survey, work experience, notes and memoranda on individual aspects of performance, productivity and suitability, information on individual eligibility to serve on various boards and committees, emergency loan records, other information relevant to personnel management, and housing information where required.

Authority for maintenance of the system:

National Security Agency Act of 1959, Public Law 86-36, (codified at 50 U.S.C. Section 402 note); 5 U.S.C. Chapter 11, Office of Personnel Management (OPM) and certain implementing OPM regulations contained within 5 CFR part 293, Personnel Records; 10 U.S.C. chapter 1124, Cash Awards for disclosures, suggestions, inventions, and scientific achievements; 44 U.S.C. 3101, Records management by agency heads; general duties; and E.O. 9397 (SSN) as amended.

Purpose(s):

To support the personnel management program; personnel training and career development; personnel planning, staffing and counseling; administration and personnel supervision; workforce study and analysis; manpower requirements studies; emergency loan program; and training curricula planning and research.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To gaining employers or financial institutions when individual has applied for credit; to contractor employees to make determinations as noted in the purpose above; to hearing examiners; the judicial branch or to other gaining government organization as required and appropriate; biographical information may be provided to the White House as required in support of the Senior Cryptologic Executive Service awards program.

To the Office of the Director of National Intelligence (ODNI) for Intelligence Community aggregate workforce planning, assessment, and reporting purposes. Records provided to the ODNI for this routine use will not include any individual's name or Social Security Number (SSN).

The DoD `Blanket Routine Uses' set forth at the beginning of the NSA/CSS' compilation of systems of records notices apply to these types of records.

Policies and practices for storing, retrieving, accessing, retaining, and disposing of records in the system:

Storage:

Paper records in file folders and electronic storage media.

Retrievability:

By name, Social Security Number (SSN) or NSA/CSS Employee Identification Number.

Safeguards:

Buildings are secured by a series of guarded pedestrian gates and checkpoints. Access to facilities is limited to security-cleared personnel and escorted visitors only. Within the offices housing these records, paper/hard-copy records are stored in locked containers with limited access, and access to electronic records is limited and controlled by password protection. Access to information is limited to those individuals authorized and responsible for personnel management or supervision. All personnel requiring access to the information receive annual Privacy Act training.

Retention and disposal:

Primary System—Those forms, notices, reports and memoranda considered to be of permanent value or required by law or regulation to be preserved are retained for the period of employment or assignment and then forwarded to the gaining organization or retained indefinitely. If the action is separation or retirement, these items are forwarded to the Office of Personnel Management or retired to the Federal Records Center in St. Louis as appropriate. Those items considered to be relevant for a temporary period only are retained for that period and either transferred with the employee or assignee or destroyed when they are no longer relevant or at the time of separation or retirement. Computerized portion is purged and updated as appropriate. Records relating to adverse actions, grievances, excluding EEO complaints and performance-based actions, except SF-50s, will be retained for seven years. Personnel summary, training, testing and past activity segments are retained permanently. All other portions are deleted at end of tenure.

Decentralized System—Files are transferred to gaining organization or destroyed upon separation as appropriate. Computer listings of personnel assigned to an organization are destroyed upon receipt of updated listings.

System manager(s) and address:

The Associate Director, Human Resources, National Security Agency/Central Security Service, 9800 Savage Road, Ft. George G. Meade, MD 20755-6000.

Notification Procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.

Record Access Procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.

Contesting Record Procedures:

The NSA/CSS rules for contesting contents and appealing initial determinations are published at 32 CFR Part 322 or may be obtained by written request addressed to the National Security Agency/Central Security Service, Freedom of Information Act/Privacy Act Office, 9800 Savage Road, Suite 6248, Ft. George G. Meade, MD 20755-6248.

Record source categories:

Forms used to collect and process individual for employment, access or assignment, forms and memoranda used to request personnel actions, training awards, professionalization, transfers, promotion, organization and supervisor reports and requests, educational institutions, references, Office of Personnel Management and other governmental entities as appropriate, and other sources as appropriate and required.

Exemptions claimed for the system:

Portions of this file system may be exempt under 5 U.S.C. 552a(k)(1), (k)(4), (k)(5) and (k)(6), as applicable.

An exemption rule for this records system has been promulgated according to the requirements of 5 U.S.C. 553(b)(1), (2), and (3), (c) and (e) and published in 32 CFR Part 322. For additional information, contact the system manager.

[FR Doc. 2011-33568 Filed 12-29-11; 8:45 am]

BILLING CODE 5001-06-P